DEPARTMENT OF ENERGY

Federal Energy Regulatory Commission

[Project No. 2210-157]

Appalachian Power Company; Notice of Application for Non-Project Use of Project Lands and Soliciting Comments, Motions To Intervene, and Protests

November 26, 2007.

Take notice that the following hydroelectric application has been filed with the Commission and is available for public inspection:

a. Application Type: Non-Project Use of Project Lands and Waters.

b. Project No: 2210-157.

c. Date Filed: November 7, 2007.

d. Applicant: Appalachian Power Company.

e. Name of Project: Smith Mountain Pumped Storage Project.

f. Location: The project is located on the Roanoke River, in Bedford, Pittsylvania, Franklin, and Roanoke Counties, Virginia.

g. Filed Pursuant to: Federal Power Act, 16 U.S.C. 791(a)-825(r).

h. Applicant Contact: Elizabeth B. Parcell, Environmental Coordinator I, Appalachian Power Company, P.O. Box 2021, Roanoke, Virginia 24022-2121 (703) 985-2348.

i. FERC Contact: Any questions on this notice should be addressed to Jade Alvey, Telephone (202) 502-6849, and e-mail: Jade.Alvey@ferc.gov.

j. Deadline for filing comments, motions to intervene, and protest: December 26, 2007.

All documents (original and eight copies) should be filed with: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Appalachian Power Company (APC) is seeking Commission approval to grant permission to Grant Sutherland to construct a single dock with 2 boat slips adjacent to shoreline identified as an Impact Mitigation Zone (IMZ), as defined in the project's shoreline management plan (SMP). The proposed dock would serve a single-family home to be constructed on Christmas Tree Island, located on the Blackwater River near its confluence with the Roanoke River on Smith Mountain Lake. The licensee is requesting a variance as required by the SMP for development within the IMZ. In accordance with the SMP, Grant Sutherland has developed a plan to construct a single dock, the length of which would not exceed a water depth of 8 feet, and would retain all vegetation within the project boundary.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-23425 Filed 12-3-07; 8:45 am]

BILLING CODE 6717-01-P